DEPARTMENT OF COMMERCE

Foreign-Trade Zones Board

[Docket 43-2011]

Foreign-Trade Subzone 38A; Application for Expansion of Manufacturing Authority (Production Capacity); BMW Manufacturing Co., LLC; (Motor Vehicles)

A request has been submitted to the Foreign-Trade Zones Board (the Board) by the South Carolina State Ports Authority, grantee of FTZ 38, on behalf of BMW Manufacturing Co., LLC, (BMWMC), operator of Subzone 38A, BMWMC plant, Greer, South Carolina, requesting authority to expand BMWMC's existing scope of FTZ manufacturing authority to include additional production capacity. The application was submitted pursuant to the provisions of the Foreign-Trade Zones Act, as amended (19 U.S.C. 81a-81u), and section 400.28(a)(2) of the Board's regulations (15 CFR part 400). It was formally filed on June 15, 2011.

Subzone 38A was approved by the Board in 1994 with authority granted for the manufacture of up to 219,000 light duty passenger vehicles at the BMWMC plant (6,500 employees/1,068 acres) located at 1400 Highway 101 South in Greer (Spartanburg County), South Carolina (Board Order 697, 59 FR 35096, 7-8-94). Activity at the facility includes machining, painting, assembly, finishing and testing/quality control. Components sourced from abroad (representing about 50% of the finished vehicles' material value) used in the manufacturing activity include: Engines, transmissions (and related parts), axles, plastic and rubber parts, mirrors, glass, wiring harnesses, fasteners, springs, electronic components (modules, switches, instruments), regulators, ignition parts, suspension modules and related parts, shock absorbers, seats, and bearings (duty rate range: free—9.9%).

The applicant now requests that the production capacity under its existing scope of FTZ manufacturing authority be expanded to include up to an additional production of 131,000 vehicles per year, which would bring its total authorized output to 350,000 vehicles per year. The expanded operations will involve similar finished products and utilization of both foreign-sourced and domestic materials and components as under BMWMC's existing scope of FTZ authority.

Expanded FTZ procedures could continue to exempt BMWMC from customs duty payments on the foreign-origin components used in production for export (between 60 and 70% of shipments). On its domestic shipments, the company would be able to elect the duty rate that applies to finished passenger motor vehicles (2.5%) for the foreign-origin inputs noted above. Subzone status would further allow BMWMC to realize logistical benefits through the use of weekly customs entry procedures. Customs duties also could possibly be deferred or reduced on foreign status production equipment. BMWMC would also be exempt from duty payments on foreign inputs that become scrap during the production process.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is August 22, 2011. Rebuttal comments in response to material submitted during the foregoing period may be submitted during the subsequent 15-day period to September 6, 2011.

A copy of the application will be available for public inspection at the Office of the Foreign-Trade Zones Board's Executive Secretary at the address listed above and in the “Reading Room” section of the Board's Web site, which is accessible via http://www.trade.gov/ftz.

For further information, contact Pierre Duy at Pierre.Duy@trade.gov or (202) 482-1378.

Dated: June 15, 2011.
Andrew McGilvray,
Executive Secretary.

[FR Doc. 2011-15462 Filed 6-20-11; 8:45 am]

BILLING CODE